DEPARTMENT OF TRANSPORTATION

Federal Aviation Administration

Notice of Intent To Rule on Disposal of Aeronautical Property at McGhee Tyson Airport, Alcoa, TN (TYS)

AGENCY: Federal Aviation Administration (FAA), DOT.

ACTION: Notice.

SUMMARY: The Federal Aviation Administration is requesting public comment on a request by the Metropolitan Knoxville Airport Authority (MKAA), to release approximately 59.093 acres of land at McGhee Tyson Airport from federal obligations. This release is being issued for the relocation of the existing alignment of State Route 115 (U.S. 129/Alcoa Highway) at the location commonly referred to as the Hunt Road interchange.

DATES: Comments must be received on or before September 24, 2018.

ADDRESSES: Comments on this notice may be mailed or delivered in triplicate to the FAA at the following address: Memphis Airports District Office, Attn: Jamal Stovall, Community Planner, 2600 Thousand Oaks Boulevard, Suite 2250, Memphis, TN 38118.

In addition, one copy of any comments submitted to the FAA must be mailed or delivered to Mr. William F. Marrison, Executive Director, Metropolitan Knoxville Airport Authority at the following address: 2055 Alcoa Highway, Alcoa, TN 37701.

FOR FURTHER INFORMATION CONTACT: Mr. Jamal Stovall, Community Planner, Federal Aviation Administration, Memphis Airports District Office, 2600, Thousand Oaks Boulevard, Suite 2250, Memphis, TN 38118-2482. The application may be reviewed in person at this same location, by appointment.

SUPPLEMENTARY INFORMATION: The FAA proposes to rule and invites public comment on the request to release property for disposal at McGhee Tyson Airport, 2055 Alcoa Hwy., Alcoa, TN 37701, under the provisions of 49 U.S.C. 47107(h)(2). The FAA determined that the request to release property at McGhee Tyson Airport (TYS) submitted by the Sponsor meets the procedural requirements of the Federal Aviation Administration and the release of the property does not and will not impact future aviation needs at the airport. The FAA may approve the request, in whole or in part, no sooner than thirty days after the publication of this notice.

The following is a brief overview of the request:

The Metropolitan Knoxville Airport Authority is releasing approximately 59.093 acres of airport property. This release is necessary for the relocation of the existing alignment of State Route 115 (US 129/Alcoa Highway) at the Hunt Road Interchange. This request will release this property from federal obligations.

The request consists of the following:

Total land area and portions of 18 federally obligated parcels currently owned by MKAA. The total amount of land to be released is 59.093 acres. The parcels in whole or portions thereof being released are referenced on the approved airport property map. The following are the effected parcels as they appear on the Approved Exhibit A and the amount of total land to be released versus the parcels total land area: A-1 (2.545ac. of 1,401.72ac.), A-3 (1.752ac. of 97.63 ac.), A-31 (49.03ac. of 70.88 ac.), A-191 (0.071ac. of 0.89ac.), A-192 (0.162ac. of 0.86ac.), A-193 (0.25ac. of 0.86ac.), A-194 (0.216ac. of 0.57ac.), A-195 (0.37ac. of 0.86ac.), A-196 (0.391 ac. of 0.86ac.), A-197 (0.454ac. of 0.83ac.), A-198 (0.608ac. of 0.91ac.), A-199 (0.756ac. of 0.75ac.), A-200 (0.59ac. of 0.59ac.), A-201 (1.107ac. of 1.107ac.), A-202 (0.232ac. of 0.232ac.), A-203 (0.21ac. of 0.21ac.), A-204 (0.185ac. of 0.185ac.), A-205 (0.162ac. of 0.162ac.). This property is bounded by Terminal Loop Drive to the west, North Wright Road to the east and Ambrose Street to the South. Parcels A-191 to A-205 were acquired in 1989. These parcels are all vacant with scattered trees and mowed grass. Parcel A-1 was purchased from the City of Knoxville in 1979, which included 1,401 acres of the original airport. Parcel A-3 was purchased from a private land owner in 1969. Parcel A-31 was purchased from the Aluminum Company of America in 1986.

This request will release this property from federal obligations. This action is taken under the provisions of 49 U.S.C. 47107(h)(2).

Any person may inspect the request in person at the FAA office listed above under FOR FURTHER INFORMATION CONTACT.

In addition, any person may, upon request, inspect the request, notice and other documents germane to the request in person at the Metropolitan Knoxville Airport Authority.

Issued in Memphis, Tennessee, on August 17, 2018.
Phillip J. Braden,
Manager, Memphis Airports District Office, Southern Region.

[FR Doc. 2018-18412 Filed 8-23-18; 8:45 am]

BILLING CODE 4910-13-P